DEPARTMENT OF THE INTERIOR

National Park Service

[NPS-WASO-NRNHL-18935; PPWOCRADI0, PCU00RP14.R50000]

National Register of Historic Places; Notification of Pending Nominations and Related Actions

Nominations for the following properties being considered for listing or related actions in the National Register were received by the National Park Service before July 25, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 8, 2015. Before including your address, phone number, email address, or other personal identifying information in your comment, you should be aware that your entire comment—including your personal identifying information—may be made publicly available at any time. While you can ask us in your comment to withhold your personal identifying information from public review, we cannot guarantee that we will be able to do so.

Dated: July 29, 2015.
J. Paul Loether,
Chief, National Register of Historic Places/National Historic Landmarks Program.

ARIZONA

Maricopa County

Cisney, George E., House, (Nineteenth-Century Residential Buildings in Phoenix MPS), 916 E. McKinley St., Phoenix, 15000567

Pima County

Catalina Foothills Estates Apartments, 2600 E. Skyline Dr., Tucson, 15000568

Tucson Community Center Historic District, 180-260 S. Church Ave., Tucson, 15000569

CALIFORNIA

Orange County

San Diego Gas and Electric San Juan Capistrano Substation, 31050 Camino Capistrano, San Juan Capistrano, 15000570

FLORIDA

Manatee County

Curry Houses Historic District, 4th Ave. E. between 12th & 14th Sts. E., Bradenton, 15000571

MARYLAND

Prince George's County

Peace Cross, Annapolis Rd. & Baltimore Ave., Bladensburg, 15000572

MISSOURI

Vernon County

Prairie View Stock Farm, Cty. Rd. WW, Rich Hill, 15000573

MONTANA

Yellowstone County

McMullen Hall, 1500 University Dr., Billings, 15000574

NORTH CAROLINA

Madison County

Mars Hill Commercial Historic District, 15 College, 2-14, 18, 24-26, 28-30, 32-34, 9, 15-25 S. Main & 10, 14, 16-20 N. Main Sts., Mars Hill, 15000575

OKLAHOMA

Adair County

KCS Railway Depot, 1 S. US 59, Stilwell, 15000577

Garfield County

Fuksa Portion of the Chisholm Trail Roadbed, Address Restricted, Bison, 15000578

Pushmataha County

Baggs, James Martin, Log Barn, W. side of Cty. Rd. N4480, Pickens, 15000579

Seminole County

Seminole Municipal Building, 401 N. Main St., Seminole, 15000580

Tulsa County

Sally Ann Apartments, 1309, 1311, 1313, 1310, 1312, 1314 S. Jackson Ave., Tulsa, 15000581

VERMONT

Washington County

Jones—Pestle Farmstead, (Agricultural Resources of Vermont MPS), 339 Bridge St., Waitsfield, 15000582

Windham County

Houghtonville Historic District, Houghtonville, Stagecoach & Cabell Rds., Grafton, 15000583

In the interest of preservation, a three day comment period has been requested for the following resource:

OHIO

Pickaway County

Circleville High School, 520 S. Court St., Circleville, 15000576

A request for removal has been made for the following resource:

ARIZONA

Maricopa County

Cisney, C. W., House, (Nineteenth-Century Residential Buildings in Phoenix MPS), 2011 W. Madison St., Phoenix, 94001527

[FR Doc. 2015-20783 Filed 8-21-15; 8:45 am]

BILLING CODE 4312-51-P